FEDERAL MARITIME COMMISSION

[Petition No. P1-21]

Petition of Kawasaki Kisen Kaisha, LTD. and “K” Line America, Inc. for a Temporary Exemption From Standard Tariff & Service Contract Filing Requirements; Notice of Filing and Request for Comments; Served: March 25, 2021

Notice is hereby given that Kawasaki Kisen Kaisha, LTD. and “K” Line America, Inc. (“Petitioners”) have petitioned the Commission pursuant to 46 CFR 502.92 “. . . for a temporary exemption from 46 CFR 520.7(c), 46 CFR 520.8(a)(1), 46 CFR 520.8(4), 46 CFR 530.8(a)(1), 46 CFR 530.3(i) and 46 CFR 530.14(a).”. Petitioner states it is “requesting retroactive application of tariff publications and service contract filings impacted by the recent cyber-attack against K Line, for a period of up to 60 days following the cyber-attack.”

In order for the Commission to make a thorough evaluation of the requested exemption and rulemaking presented in the Petition, pursuant to 46 CFR 502.92, interested parties are requested to submit views or arguments in reply to the Petition no later than April 5, 2021. Replies shall be sent to the Secretary by email to Secretary@fmc.gov, and replies shall be served on Petitioner, K Line America, Inc., 4860 Cox Road, Glen Allen, VA 23060.

Any confidential filing must be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” The Petition will be posted on the Commission's website at http://www.fmc.gov/P1-21. Replies filed in response to the Petition will also be posted on the Commission's website at this location.

Rachel E. Dickon,
Secretary.

[FR Doc. 2021-06498 Filed 3-29-21; 8:45 am]

BILLING CODE 6730-02-P